DEPARTMENT OF ENERGY

Federal Energy Regulatory Commission

[Docket No. RP03-290-001]

ANR Pipeline Company; Notice of Tariff Filing

March 20, 2003.

Take notice that, on March 17, 2003, ANR Pipeline Company (ANR) tendered for filing as part of its FERC Gas Tariff, Second Revised Volume No. 1, the following tariff sheet to be effective April 1, 2003:

Substitute Nineteenth Revised Sheet No. 19

ANR states that this filing corrects a clerical error in the February 28, 2003 filing to redetermine the Transporter's Use Percentage. The revised tariff sheet reflects a reduction in the storage percentage from that filed on February 28, 2003.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 31, 2003.

Magalie R. Salas,
Secretary.

[FR Doc. 03-7329 Filed 3-26-03; 8:45 am]

BILLING CODE 6717-01-P